DEPARTMENT OF COMMERCE

National Oceanic and Atmospheric Administration

[RTID 0648-XB680]

Gulf of Mexico Fishery Management Council; Public Meeting

AGENCY: National Marine Fisheries Service (NMFS), National Oceanic and Atmospheric Administration (NOAA), Commerce.

ACTION: Notice of hybrid meeting.

SUMMARY: The Gulf of Mexico Fishery Management Council (Council) will hold a four-day meeting to consider actions affecting the Gulf of Mexico fisheries in the exclusive economic zone (EEZ). The meeting is open to the public offering both in-person and virtual options for participation.

DATES: The meeting will convene Monday, January 24 through Wednesday, January 26, 2022, from 8 a.m. to 5:30 p.m., CST and on Thursday, January 27, 2022, from 8 a.m. to 4:30 p.m., CST.

ADDRESSES:

Meeting address: The meeting will take place at Hilton Baton Rouge Capitol Center, located at 201 Lafayette Street, Baton Rouge, LA 70801. Please note, in-person meeting attendees will be expected to follow any current COVID-19 safety protocols as determined by the Council, hotel and the City of Baton Rouge. Such precautions may include masks, room capacity restrictions, and/or social distancing. If you prefer to “listen in”, you may access the log-on information by visiting our website at www.gulfcouncil.org.

Council address: Gulf of Mexico Fishery Management Council, 4107 W. Spruce Street, Suite 200, Tampa, FL 33607; telephone: (813) 348-1630.

FOR FURTHER INFORMATION CONTACT: Dr. Carrie Simmons, Executive Director, Gulf of Mexico Fishery Management Council; telephone: (813) 348-1630.

SUPPLEMENTARY INFORMATION:

Monday, January 24, 2022; 8 a.m.-5:30 p.m., CST

The meeting will begin open to the public in a Full Council Session to hold an Election of Council Vice-Chair, and review and adoption of the revised Council Committee Assignments for October 2021 through August 2022.

Committee sessions will begin approximately 8:15 a.m. with the Habitat Protection and Restoration Committee receiving a presentation from the Bureau of Ocean Energy Management (BOEM) on Wind Energy Development in the Gulf of Mexico, review of Essential Fish Habitat Generic Amendment and Draft Response Letter to NOAA Request for Comments on the Area-Based Management Goals Related to Executive Order 14008.

The Outreach and Education Committee will receive a presentation on 2021 Communications Analytics and Updated 2021 Communications Improvement Plan, draft Social Media Guidelines, draft Public Comment Guidelines, draft Press Release Guidelines, and the 2022 Communications Improvement Plan. The Committee will discuss remaining items form the Outreach and Education Technical Committee and receive a presentation on Summary of Discard and Barotrauma Reduction Efforts Across the Region.

The Shrimp Committee will review National Marine Fisheries Service's (NMFS) Evaluation of Draft Approval Specifications for Reinstituting Historical cELB Program, Updated Draft Framework Action: Modification of the Vessel Position Data Collection Program for the Gulf of Mexico Shrimp Fishery, and summary of the Shrimp Advisory Panel Meeting.

The Mackerel Committee will review and discuss Coastal Migratory Pelagics Landings, Draft Amendment 33: Modifications to the Gulf of Mexico Migratory Group King Mackerel Catch Limits and Sector Allocations, and Draft Amendment 34: Atlantic Migratory Group King Mackerel Catch Levels and Atlantic King and Spanish Mackerel Management Measures.

Tuesday, January 25, 2022; 8 a.m.-5:30 p.m., CST

The Reef Fish Committee will convene to review Reef Fish Landings and Individual Fishing Quota (IFQ) Landings and Final Action: Framework Action: Modification of Vermillion Snapper Catch Limits. Following, the Committee will receive presentations on SEDAR 70: Greater Amberjack Stock Assessment Report and SEDAR 72: Gag Grouper Stock Assessment Report, and discuss SSC Recommendations and Reef Fish Advisory Panel Feedback for both. The Committee will also discuss the Council Request for State Reef Fish Survey (SRFS) Integration and Update Assessment for SEDAR 72: Gag Grouper.

The Committee will review Individual Fishing Quota (IFQ) Programs, Focus Group Formation and next steps and Public Hearing Draft: Reef Fish Amendment 36B. The Committee will receive an update on Draft Snapper Grouper Amendment 44 and Reef Fish Amendment 55: Modifications to Southeastern U.S. Yellowtail Snapper Jurisdictional Allocations, Catch Limits, and South Atlantic Sector Annual Catch Limits.

The Committee will hold a discussion on Wenchman in the Gulf of Mexico, review the Revised Great Red Snapper Count Estimates and SSC Recommendations for re-evaluating Red Snapper Catch Advise, discuss any remaining SSC and Reef Fish Advisory Panel recommendations.

Full Council will reconvene in a CLOSED SESSION for selection of IFQ Focus Group Participants.

Wednesday, January 26, 2022; 8 a.m.-5:30 p.m., CST

The Data Collection Committee will receive an update on Southeast For-Hire Integrated Electronic Reporting (SEFHIER) Program and review Draft Framework Action: Modification to Location Reporting Requirements for For-Hire Vessels and Reef Fish Advisory Panel (AP) Recommendations. The Committee will receive a presentation on Update on Modifications to the Commercial Electronic Reporting Program. The Committee will receive an update on Upcoming Workshop to Evaluate State-federal Recreational Survey Differences.

The Sustainable Fisheries Committee will review and discuss Standardized Bycatch Reporting Methodology and SSC Recommendations.

Following lunch at approximately 1:30 p.m. CST, the Council will reconvene with a Call to Order, Announcements and Introductions, Adoption of Agenda and Approval of Minutes; and receive a presentation on Density Estimations of age-0 and age-1 Gray Triggerfish, Balistes capriscus, and Vermilion Snapper, Rhomboplites aurorubens, from 2007 to 2015, in the northern Gulf of Mexico.

The Council will hold public testimony from 2:15 p.m. to 5:30 p.m., CST on Final Action Item: Framework Action: Modification of Vermilion Snapper Catch Limits; and open testimony on other fishery issues or concerns. Public comment may begin earlier than 2:15 p.m. CST, but will not conclude before that time. Persons wishing to give public testimony in-person must register at the registration kiosk in the meeting room. Persons wishing to give public testimony virtually must sign up on the Council website on the day of public testimony. Registration for virtual testimony closes one hour (1:15 p.m. CST) before public testimony begins.

Thursday, January 27, 2022; 8 a.m.-4:30 p.m., CST

The Council will receive Committee reports from Habitat Protection and Restoration, Shrimp, Outreach and Education, Mackerel, Data Collection, Reef Fish and Sustainable Fisheries Management Committees. The Council will review Closed Session Report and receive updates from the following supporting agencies: South Atlantic Fishery Management Council; Louisiana Law Enforcement Efforts; NOAA Office of Law Enforcement (OLE); Gulf States Marine Fisheries Commission; U.S. Coast Guard; U.S. Fish and Wildlife Service; and Department of State.

Lastly, the Council will discuss any Other Business items.

Meeting Adjourns

The meeting will be a hybrid meeting offering options for both in-person and virtual attendance. You may register for the webinar to “listen-in” only by visiting www.gulfcouncil.org and click on the Council meeting tab.

The timing and order in which agenda items are addressed may change as required to effectively address the issue, and the latest version along with other meeting materials will be posted on the website as they become available.

Although other non-emergency issues not contained in this agenda may come before this group for discussion, in accordance with the Magnuson-Stevens Fishery Conservation and Management Act (Magnuson-Stevens Act), those issues may not be the subject of formal action during these meeting. Actions will be restricted to those issues specifically listed in this notice and any issues arising after publication of this notice that require emergency action under Section 305(c) of the Magnuson-Stevens Act, provided that the public has been notified of the Council's intent to take final action to address the emergency.

Special Accommodations

These meetings are physically accessible to people with disabilities. Requests for sign language interpretation or other auxiliary aid or accommodations should be directed to Kathy Pereira, (813) 348-1630, at least 15 days prior to the meeting date.

Authority: 16 U.S.C. 1801 et seq.

Dated: December 21, 2021.
Tracey L. Thompson,
Acting Deputy Director, Office of Sustainable Fisheries, National Marine Fisheries Service.

[FR Doc. 2021-28073 Filed 12-23-21; 8:45 am]

BILLING CODE 3510-22-P